DEPARTMENT OF COMMERCE

National Oceanic and Atmospheric Administration

RIN 0648-XE89

Fisheries of the Caribbean, Gulf of Mexico, and South Atlantic; Coastal Migratory Pelagic Resources of the Gulf of Mexico and South Atlantic; Amendment 18

AGENCY: National Marine Fisheries Service (NMFS), National Oceanic and Atmospheric Administration (NOAA), Commerce.

ACTION: Notice of intent (NOI) to prepare a draft environmental impact statement (DEIS); notice of scoping meetings; request for comments.

SUMMARY: The South Atlantic Fishery Management Council (Council) intends to prepare a DEIS to assess impacts on the natural and human environment of management measures proposed in its draft Amendment 18 to the Fishery Management Plan for Coastal Migratory Pelagic Resources of the Gulf of Mexico and South Atlantic Region (FMP).

DATES: Written comments on the scope of the issues to be addressed in the DEIS will be accepted until February 22, 2008, at 5 p.m.

ADDRESSES: Comments may be sent by any of the following methods, mail: Kate Michie, NMFS, Southeast Regional Office, 263 13th Avenue South, St. Petersburg, FL 33701; phone: 727-824-5305; fax: 727-824-5308; e-mail: 0648-XE89@noaa.gov. Scoping documents are available from the Council's Web site at www.safmc.net.

FOR FURTHER INFORMATION CONTACT: Kim Iverson, Public Information Officer, South Atlantic Fisheries Management Council, 4055 Faber Place Drive, Suite 201, North Charleston, SC 29405; phone: 843-571-4366, toll free 1-866-SAFMC-10;fax: 843-769-4520; e-mail: kim.iverson@safmc.net.

SUPPLEMENTARY INFORMATION: The mackerel fishery of the Gulf of Mexico and South Atlantic region in the exclusive economic zone is managed under the FMP. The FMP was prepared by the Council and implemented by NMFS under the authority of the Magnuson-Stevens Fishery Conservation and Management Act by regulations at 50 CFR part 622.

Amendment 18 would allocate the Atlantic migratory group king mackerel commercial quota by region to prevent early closure in one state from negatively impacting fishing in another state. Given the level of commercial catch and the potential change in the commercial quota after the 2008 Southeast Data Assessment and Review (SEDAR) assessment, it is possible the commercial quota would be harvested before the end of the fishing year. If the quota is reached by October or November, 2008, and a closure is necessary, this could have large, negative impacts to fishermen in North Carolina.

This NOI is intended to inform the public of the preparation of a DEIS in support of Amendment 18 to the FMP to establish regional allocations for Atlantic migratory group king mackerel. Options suggested thus far to allocate the quota by region include: state by state quotas; semi-annual quotas (i.e., March 1 through September 30 and October 1 through the end of February, or March 1 through August 31 and September 1 through the end of February); and regional quotas (i.e., for Georgia and Florida, and for North Carolina and South Carolina).

Following consideration of public scoping comments, the Council plans to begin preparation of the draft Mackerel Amendment 18/DEIS after the 2008 SEDAR stock assessment has been completed. The Council and its Scientific and Statistical Committee will review the draft Mackerel Amendment 18/DEIS in 2009. If the Council approves the document, public review will take place in May 2009.

A Federal Register notice will announce the availability of the DEIS associated with this amendment, as well as a 45-day public comment period, pursuant to regulations issued by the Council on Environmental Quality for implementing the National Environmental Policy Act and to NOAA's Administrative Order 216-6. The Council will consider public comments received on the DEIS in developing the final environmental impact statement (FEIS), and before voting to submit the final amendment to NMFS for Secretarial review, approval, and implementation. NMFS will announce in the Federal Register the availability of the final amendment and FEIS for public review during the Secretarial review period, and will consider all public comments prior to final agency action to approve, disapprove, or partially approve the final amendment.

Scoping Meetings, Times, and Locations

All meetings will begin at 2 p.m. In addition to Amendment 18, the Council intends to scope three other amendments at this series of meetings. Separate NOIs have been prepared for each amendment. The meetings will be physically accessible to people with disabilities. Requests for information packets or for sign language interpretation or other auxiliary aids should be directed to the Council (see ADDRESSES).

Monday, February 4, 2008 - The Mutiny Hotel, 2951 South Bayshore Drive, Coconut Grove, FL 33133; phone: 305-441-2100.

Tuesday, February 5, 2008 - Radisson Resort at the Port, 8701 Astronaut Boulevard, Cape Canaveral, FL 32920; phone: 321-784-0000.

Wednesday, February 6, 2008 - Quality Inn, 125 Venure Drive, Brunswick, GA 31525; phone: 912-265-4600.

Thursday, February 7, 2008 - Sheraton New Bern, 100 Middle Street, New Bern, NC 28560; phone: 252-638-3585.

Wednesday, February 20, 2008 - Hilton Garden Inn, 5265 International Boulevard, North Charleston, SC 29418; phone: 843-308-9331.

Authority: 16 U.S.C. 1801 et seq.

Dated: January 16, 2008.
Emily H. Menashes,
Acting Director, Office of Sustainable Fisheries, National Marine Fisheries Service.

[FR Doc. E8-1042 Filed 1-18-08; 8:45 am]

BILLING CODE 3510-22-S